SECURITIES AND EXCHANGE COMMISSION

[Release No. IC-28322]

Notice of Applications for Deregistration Under Section 8(f) of the Investment Company Act of 1940

June 27, 2008.

The following is a notice of applications for deregistration under section 8(f) of the Investment Company Act of 1940 for the month of June, 2008. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on July 22, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

OFI Tremont Market Neutral Hedge Fund [File No. 811-21109]

Summary: Applicant, a closed-end investment company, seeks an order declaring that it has ceased to be an investment company. On April 29, 2008, applicant transferred its assets to OFI Tremont Core Strategies Hedge Fund, based on net asset value. Expenses of $18,500 incurred in connection with the reorganization were paid by OppenheimerFunds, Inc., applicant's investment adviser.

Filing Dates: The application was filed on June 5, 2008, and amended on June 23, 2008.

Applicant's Address: 6803 S. Tucson Way, Centennial, CO 80112.

UBS Sequoia Fund, L.L.C. [File No. 811-10075]

Summary: Applicant, a closed-end investment company, seeks an order declaring that it has ceased to be an investment company. On December 21, 2007, applicant made a liquidating distribution to its shareholders, based on net asset value. Expenses of $5,900 incurred in connection with the liquidation were paid by applicant.

Filing Date: The application was filed on June 4, 2008.

Applicant's Address: c/o UBS Financial Services Inc., 51 West 52nd St., New York, NY 10019.

Tremont Oppenheimer Absolute Return Fund [File No. 811-21541]

Summary: Applicant, a closed-end investment company, seeks an order declaring that it has ceased to be an investment company. Applicant has never made a public offering of its securities and does not propose to make a public offering or engage in business of any kind.

Filing Date: The application was filed on June 10, 2008.

Applicant's Address: 6803 S. Tucson Way, Centennial, CO 80112.

Citizens Funds [File No. 811-3626]

Summary: Applicant seeks an order declaring that it has ceased to be an investment company. On April 4, 2008, applicant transferred its assets to Sentinel Group Funds, Inc., based on net asset value. Expenses of approximately $958,237 incurred in connection with the reorganization were paid by Citizen Advisers, Inc., applicant's investment adviser, and Sentinel Asset Management, Inc., the acquiring fund's investment adviser.

Filing Dates: The application was filed on May 9, 2008, and amended on June 9, 2008.

Applicant's Address: One Harbour Pl., Suite 400, Portsmouth, NH 03801.

CCMA Select Investment Trust [File No. 811-10441]

Summary: Applicant seeks an order declaring that it has ceased to be an investment company. Applicant has never made a public offering of its securities and does not propose to make a public offering or engage in business of any kind.

Filing Dates: The application was filed on May 13, 2008, and amended on May 29, 2008.

Applicant's Address: c/o CCM Advisors, LLC, 190 South LaSalle St., Suite 2800, Chicago, IL 60603.

Cova Variable Annuity Account Four [File No. 811-6543]

Summary: Applicant seeks an order declaring that it has ceased to be an investment company. Applicant requests deregistration based on abandonment of registration. Applicant is not now engaged, or intending to engage, in any business activities other than those necessary for winding up its affairs.

Filing Date: The application was filed on May 30, 2008.

Applicant's Address: MetLife Investors Insurance Company, 5 Park Plaza, Suite 1900, Irvine, CA 92614.

For the Commission, by the Division of Investment Management, pursuant to delegated authority.
Florence E. Harmon,
Acting Secretary.

[FR Doc. E8-15065 Filed 7-2-08; 8:45 am]

BILLING CODE 8010-01-P